DEPARTMENT OF THE INTERIOR

U.S. Geological Survey

Agency Information Collection Activities: Comment Request

AGENCY: U.S. Geological Survey (USGS), Interior.

ACTION: Notice of a new information collection.

SUMMARY: To comply with the Paperwork Reduction Act of 1995 (PRA), we are notifying the public that we will submit to OMB a new information collection request (ICR) for approval of the paperwork requirements for the National Spatial Data Infrastructure, Cooperative Agreements Program (NSDI CAP). To submit a proposal for the NSDI CAP three standard OMB forms and project narrative must be completed and submitted via on Grants.gov. This notice provides the public an opportunity to comment on the paperwork burden of these forms. The forms are available at http://www07.grants.gov/agencies/approved_standard_forms.jsp and the NSDI CAP project narrative guidance is available at http://www.fgdc.gov/grants/2008CAP/2008CAPSolicitation_ver6.doc.

DATES: Submit written comments by January 22, 2008.

ADDRESSES: You may submit comments on this information collection to the Department of the Interior, USGS, via:

• Email atravnic@usgs.gov. Use Information Collection Number 1028-NEW, NSDI CAP in the subject line.

• FAX: (703) 648-7069. Use Information Collection Number 1028-NEW, NSDI CAP in the subject line.

• Mail or hand-carry comments to the Department of the Interior; USGS Clearance Officer, U.S. Geological Survey, 807 National Center, Reston, VA 20192. Please reference Information Collection 1028-NEW, NSDI CAP in your comments.

FOR FURTHER INFORMATION CONTACT: Brigitta Urban-Mathieux. 703-648-5175. Copies of the forms can be obtained at no cost at http://www.reginfo.gov, or by contacting the USGS clearance officer at the phone number list below.

SUPPLEMENTARY INFORMATION: Title: National Spatial Data Infrastructure Cooperative Agreements Program (NSDI CAP).

OMB Control Number: 1028-NEW NSDI CAP.

Form Number: Standard Form 424 Application for Federal Assistance, Standard Form 424A Budget Information Non-Construction Programs, and Standard Form 424B Assurances Non-Construction Programs, and Project narrative guidance posted on Grants.gov.

Abstract: Respondents are submitting proposals to acquire funding for projects to help build the infrastructure necessary for the geospatial data community to effectively discover, access, share, manage, and use digital geographic data. The NSDI consists of the technologies, policies, organizations, and people necessary to promote cost-effective production, and the ready availability and greater utilization of geospatial data among a variety of sectors, disciplines, and communities. Specific NSDI areas of emphasis include: metadata documentation, clearinghouse establishment, framework development, standards implementation, and geographic information system (GIS) organizational coordination.

We will protect information from respondents considered proprietary under the Freedom of Information Act (5 U.S.C. 552) and its implementing regulations (43 CFR part 2), and under regulations at 30 CFR 250.197, “Data and information to be made available to the public or for limited inspection.” Responses are voluntary. No questions of a “sensitive” nature are asked. We intend to release the project abstracts and primary investigators for awarded/funded projects only.

Frequency: Annually.

Estimated Number and Description of Respondents: Approximately 80 proposals are submitted by individuals involved in the area of geospatial science.

Estimated Number of Responses: 80.

Annual Burden Hours: 1280.

Estimated Annual Reporting and Recordkeeping “Hour” Burden: We estimate the public reporting burden averages 8 to 16 hours per response. This includes the time for reviewing instructions, developing the proposal, and completing and reviewing the information.

Estimated Reporting and Recordkeeping “Non-Hour Cost” Burden: We have not identified any “non-hour cost” burdens associated with this collection of information.

Public Disclosure Statement: The PRA (44 U.S.C. 3501, et seq.) provides that an agency may not conduct or sponsor, and you are not required to respond to, a collection of information unless it displays a currently valid OMB control number. Until OMB approves a collection of information, you are not obligated to respond.

Comments: Before submitting an ICR to OMB, PRA section 3506(c)(2)(A) (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we publish this Federal Register notice announcing that we will submit this ICR to OMB for approval. The notice provided the required 60-day public comment period.

USGS Information Collection Clearance Officer: Alfred Travnicek, 703-648-7231.

Dated: November 14, 2007.
Ivan DeLoatch,
Staff Director, Federal Geographic Data Committee, Geospatial Information Coodination Office.

[FR Doc. 07-5762 Filed 11-20-07; 8:45 am]

BILLING CODE 4311-AM-M